FEDERAL COMMUNICATIONS COMMISSION

47 CFR Part 73

[MB Docket No. 22-112; RM-11919; DA 22-524; FR ID 87344]

Television Broadcasting Services Weston, West Virginia

AGENCY: Federal Communications Commission.

ACTION: Final rule.

SUMMARY: On March 9, 2022, the Media Bureau, Video Division (Bureau) issued a Notice of Proposed Rulemaking (NPRM) in response to a petition for rulemaking filed by Gray Television Licensee, LLC (Petitioner), the licensee of WDTV (Station), channel 5, Weston, West Virginia, requesting the substitution of channel 33 for channel 5 at Weston in the Table of Allotments. For the reasons set forth in the Report and Order referenced below, the Bureau amends Federal Communications Commission (FCC or Commission) regulations to substitute channel 33 for channel 5 at Weston.

DATES: Effective May 19, 2022.

FOR FURTHER INFORMATION CONTACT: Joyce Bernstein, Media Bureau, at (202) 418-1647 or Joyce.Bernstein@fcc.gov.

SUPPLEMENTARY INFORMATION: The proposed rule was published at 87 FR 16155 on March 22, 2022. The Petitioner filed comments in support of the petition reaffirming its commitment to apply for channel 33. No other comments were filed.

The Commission has recognized the negative effects manmade noise has on the reception of digital very high frequency (VHF) signals, and that the propagation characteristics of these channels allow undesired signals and noise to be receivable at relatively farther distances compared to ultra high frequency (UHF) channels, and nearby electrical devices can cause interference. While 388,223 persons are predicted to lose service using a contour analysis, all but 4,142 persons will continue to receive CBS service from other stations in the region or continue to be well served by five or more television services. Moreover, a terrain-limited analysis using the Commission's TVStudy software demonstrates that only 498 persons would no longer receive CBS network programming or receive service from five or more full power television services, a number the Commission considers de minimis.

This is a synopsis of the Commission's Report and Order, MB Docket No. 22-112; RM-11919; DA 22-524, adopted May 12, 2022, and released May 12, 2022. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of the Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622(j), amend the Table of Allotments under West Virginia by revising the entry for Weston to read as follows:

§ 73.622 Digital television table of allotments.

* * * * *

(j) * * *

Community | Channel No.
* * * * *
West Virginia
* * * * *
Weston | 33
* * * * *

[FR Doc. 2022-10723 Filed 5-18-22; 8:45 am]

BILLING CODE 6712-01-P